DEPARTMENT OF AGRICULTURE

Forest Service

Ochoco National Forest, Lookout Mountain Ranger District; Oregon; East Maurys Fuels and Vegetation Management Project

AGENCY: Forest Service, USDA.

ACTION: Revised notice of intent to prepare an environmental impact statement.

SUMMARY: On August 15, 2005, the USDA Forest Service (FS), Ochoco National Forest, published a Notice of Intent (NOI) in the Federal Register (70 FR 47785-47787) to prepare an environmental impact statement (EIS) for the East Maurys Fuels and Vegetation Management Project. The FS revises that NOI as follows: Except for the sections noted, all prior information remains the same.

DATES: The original NOI states the draft EIS is expected to be available for public comment in May 2006 and final EIS is expected in November 2006. This revised NOI modifies the date the draft EIS is expected to be available to December 2007. The Environmental Protection Agency (EPA) will publish a Notice of Availability (NOA) of the draft EIS in the Federal Register when it is available. The final EIS is estimated to be available to the public in April 2008.

FOR FURTHER INFORMATION CONTACT: Barb Fontaine, Project Leader, at the Ochoco National Forest, 3160 NE Third Street, Prineville, Oregon 97754 or at (541) 416-6500.

SUPPLEMENTARY INFORMATION:

Possible Alternatives

The original NOI stated that an alternative limited to noncommercial thinning and prescribed fire activities was being considered. That alternative is no longer being considered. Based on issues identified as a result of scoping efforts, an alternative that limits new road construction is being developed.

Responsible Official

The responsible official for this project is Jeff Walter, Forest Supervisor, Ochoco National Forest, 3160 NE Third Street, Prineville, Oregon 97754.

Preliminary Issues

As a result of scoping efforts, the Ochoco National Forest has identified two significant issues that will be analyzed in detail. These issues relate to road construction and the effects of roads on water quality and wildlife habitats.

Dated: October 10, 2007.
Arthur J. Currier,
District Ranger.

[FR Doc. 07-5169 Filed 10-18-07; 8:45 am]

BILLING CODE 3410-11-M